Title 3—

The President

Proclamation 8369 of May 1, 2009

Asian American and Pacific Islander Heritage Month, 2009

By the President of the United States of America

A Proclamation

The vast diversity of languages, religions, and cultural traditions of Asian Americans and Pacific Islanders continues to strengthen the fabric of American society. From the arrival of the first Asian American and Pacific Islander immigrants 150 years ago to those who arrive today, as well as those native to the Hawaiian Islands and to our Pacific Island territories, all possess the common purpose of the fulfilling the American dream and leading a life bound by the American ideals of life, liberty, and the pursuit of happiness.

During Asian American and Pacific Islander Heritage Month, we remember the challenges and celebrate the achievements that define our history.

Asian Americans and Pacific Islanders have endured and overcome hardship and heartache. In the earliest years, tens of thousands of Gold Rush pioneers, coal miners, transcontinental railroad builders, as well as farm and orchard laborers, were subject to unjust working conditions, prejudice, and discrimination——yet they excelled. Even in the darkness of the Exclusion Act and Japanese internment, Asian Americans and Pacific Islanders have persevered, providing for their families and creating opportunities for their children.

Amidst these struggles, Asian Americans and Pacific Islanders have contributed in great and significant ways to all aspects of society. They have created works of literature and art, thrived as American athletes, and prospered in the world of academia. Asian Americans and Pacific Islanders have played a vital role in our Nation’s economic and technological growth by establishing successful enterprises and pushing the limits of science. They are serving in positions of leadership within the government more now than ever before. And along with all of our great service men and women, they have defended the United States from threats at home and abroad, serving our Nation with valor.

From the beaches of the Pacific islands and the California coast, the grasslands of Central Asia and the bluegrass of Kentucky, and from the summits of the Himalayas and the Rocky Mountains, the Asian American and Pacific Islander community hails from near and far. This is the story of our more perfect union: that it is diversity itself that enriches, and is fundamental to, the American story.

NOW, THEREFORE, I, BARACK OBAMA, President of the United States of America, by virtue of the authority vested in me by the Constitution and the laws of the United States, do hereby proclaim May 2009, as Asian American and Pacific Islander Heritage Month. I call upon the people of the United States to learn more about the history of Asian Americans and Pacific Islanders and to observe this month with appropriate programs and activities.

IN WITNESS WHEREOF, I have hereunto set my hand this first day of May, in the year of our Lord two thousand nine, and of the Independence of the United States of America the two hundred and thirty-third.

[FR Doc. E9-10710

Filed 5-5-09; 11:15 am]

Billing code 3195-W9-P